DEPARTMENT OF HEALTH AND HUMAN SERVICES

Centers for Disease Control and Prevention

[60Day-10-0009]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Disease Surveillance Program (OMB No. 0920-0009 Exp. 3/31/2010)—Revision—National Center for Zoonotic, Vector-borne, and Enteric Diseases (NCZVED), Centers for Disease Control and Prevention (CDC).

Background and Brief Description

Formal surveillance of 17 separate reportable diseases has been ongoing to meet the public demand and scientific interest in accurate, consistent, epidemiologic data. These ongoing disease reports include: Creutzfeldt-Jakob Disease (CJD), Cyclospora, Dengue, Hantavirus, Kawasaki Syndrome, Legionellosis, Lyme disease, Malaria, Plague, Q Fever, Reye Syndrome, Tickborne Rickettsial Disease, Trichinosis, Tularemia, Typhoid Fever, and Viral Hepatitis. This revision entails the discontinuation of the two Active Bacterial Surveillance (ABCs) forms which now collect data under a separate OMB control number, 0920-0802. Case report forms from state and territorial health departments enable CDC to collect demographic, clinical, and laboratory characteristics of cases of these diseases.

The purpose of the proposed study is to direct epidemiologic investigations, identify and monitor trends in reemerging infectious diseases or emerging modes of transmission, to search for possible causes or sources of the diseases, and develop guidelines for prevention and treatment. The data collected will also be used to recommend target areas most in need of vaccinations for selected diseases and to determine development of drug resistance. Because of the distinct nature of each of the diseases, the number of cases reported annually is different for each. There is no cost to respondents other than their time.

Estimated Annualized Burden Hours
Form | Type of respondent | Number of respondents | Number of responses per respondent | Average burden per response (in hours) | Total burden hours
CJD | Epidemiologist | 20 | 2 | 20/60 | 13
Cyclosporiasis | Epidemiologist | 55 | 10 | 15/60 | 138
Dengue | Epidemiologist | 55 | 182 | 15/60 | 2503
Hantavirus | Epidemiologist | 46 | 3 | 20/60 | 46
Kawasaki Syndrome | Epidemiologist | 55 | 8 | 15/60 | 110
Legionellosis | Epidemiologist | 23 | 12 | 20/60 | 92
Lyme Disease | Epidemiologist | 52 | 385 | 10/60 | 3337
Malaria | Epidemiologist | 55 | 20 | 15/60 | 275
Plague | Epidemiologist | 11 | 1 | 20/60 | 4
Q Fever | Epidemiologist | 55 | 1 | 10/60 | 9
Reye Syndrome | Epidemiologist | 50 | 1 | 20/60 | 17
Tick-borne Rickettsia | Epidemiologist | 55 | 18 | 10/60 | 165
Trichinosis | Epidemiologist | 25 | 1 | 20/60 | 8
Tularemia | Epidemiologist | 55 | 2 | 20/60 | 37
Thphoid fever | Epidemiologist | 55 | 6 | 20/60 | 110
Viral hepatitis | Epidemiologist | 55 | 200 | 25/60 | 4583
Total |  |  |  |  | 11,447

Dated: December 10, 2009.
Maryam I. Daneshvar,
Acting Reports Clearance Officer, Centers for Disease Control and Prevention.

[FR Doc. E9-30015 Filed 12-16-09; 8:45 am]

BILLING CODE 4163-18-P